DEPARTMENT OF LABOR

Employment and Training Administration

[TA-W-63,747]

Hynix Semiconductor Manufacturing America, Inc., Including On-Site Leased Workers From Securitas Security Sytems, Global Tech Building Services Corp., Air Liquide Electronics U.S. LP and Lam Research Corporation, Eugene, Oregon; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on August 20, 2008, applicable to workers of Hynix Semiconductor Manufacturing America, Inc., Eugene, Oregon. The notice was published in the Federal Register on September 3, 2008 (73 FR 51529). The certification was amended on October 30, 2008 to include on-site leased workers from Securitas Security Systems and Global Tech Building Services Corp. The notice was published in the Federal Register on November 7, 2008 (73 FR 66273). A second certification was amended on January 13, 2009 to include on-site leased workers from Air Liquide Electronics U.S. LP. The notice was published in the Federal Register on February 2, 2009 (74 FR 5866).

At the request of the petitioners, the Department reviewed the certification for workers of the subject firm. The workers are engaged in the production of Dynamic Random Access Memory (DRAM) wafers.

New information shows that leased workers of Lam Research Corporation were employed on-site at the Eugene, Oregon location of Hynix Semiconductor Manufacturing America, Inc. The Department has determined that these workers were sufficiently under the control of the subject firm.

Based on these findings, the Department is amending this certification to include leased workers of Lam Research Corporation working on-site at the Eugene, Oregon location of the subject firm.

The intent of the Department's certification is to include all workers employed at Hynix Semiconductor Manufacturing America, Inc., Eugene, Oregon who were adversely affected by increased imports following a shift in production of Dynamic Random Access Memory (DRAM) wafers to South Korea.

The amended notice applicable to TA-W-63,747 is hereby issued as follows:

All workers of Hynix Semiconductor Manufacturing America, Inc. including on-site leased workers from Securitas Security Systems, Global Tech Building Services Corp., Air Liquide Electronics U.S. LP and Lam Research Corporation, Eugene, Oregon, who became totally or partially separated from employment on or after July 24, 2007, through August 20, 2010, are eligible to apply for adjustment assistance under Section 223 of the Trade Act of 1974, and are also eligible to apply for alternative trade adjustment assistance under Section 246 of the Trade Act of 1974.

Signed at Washington, DC this 8th day of October 2009.
Elliott S. Kushner,
Certifying Officer, Division of Trade Adjustment Assistance.

[FR Doc. E9-25792 Filed 10-26-09; 8:45 am]

BILLING CODE 4510-FN-P